DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 U.S.C. 1531 et seq.).

Permit No. TE-836521

Applicant: Dan Holland, Fallbrook, California.

The permittee requests an amendment to take (capture, handle, mark, and release) the southwestern arroyo toad (Bufo microscaphus californicus) and take (capture, handle, and release) the tidewater goby (Eucyclogobius newberryi) in conjunction with surveys and scientific research throughout each species' range in California for the purpose of enhancing their survival.

Permit No. TE-034293

Applicant: Bureau of Reclamation, Klamath Falls, Oregon.

The applicant requests a permit to take (capture, handle, tag, and release; sacrifice) the shortnose sucker (Chasmistes brevirostris) and the Lost River sucker (Deltistes luxatus) throughout each species' range in conjunction with scientific research for the purpose of enhancing their survival. These activities were previously authorized under subpermit BUETM-3.

Permit No. TE-035528

Applicant: Bureau of Land Management, Hines, Oregon.

The applicant requests a permit to take (remove and reduce to possession) Malheur wirelettuce (Stephanomeria malheurensis) throughout the species' range in conjunction with scientific research for the purpose of enhancing its survival. This activity was previously authorized under subpermit FRANW-7.

Permit No. TE-034969

Applicant: California Department of Transportation, Fresno, California.

The applicant requests a permit to take (capture) the giant kangaroo rat (Dipodomys ingens), Tipton kangaroo rat (Dipodomys nitratoides nitratoides), riparian brush rabbit (Sylvilagus bachmani riparius), riparian woodrat (Neotoma fuscipes riparia), and the blunt-nosed leopard lizard (Gambelia sila) in conjunction with surveys in Fresno, Madera Tulare, Kings, Kern, San Joaquin, Amador, Calaveras, Tuolumne, Mariposa, Merced, Stanislaus, Alpine, Mono, Inyo, Santa Cruz, San Benito, Monterey, San Luis Obispo, and Santa Barbara Counties, California for the purpose of enhancing their survival.

Permit No. TE-035336

Applicant: John Everett Vollmar, Davis, California.

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California, and also requests authorization to display voucher specimens for educational purposes, for the purpose of enhancing their survival.

Permit No. TE-837448

Applicant: Douglas Allen, San Diego, California.

The permittee requests a permit amendment to take the San Diego fairy shrimp (Brachinecta sandiegonensis) and the Riverside fairy shrimp (Streptocephalus woottoni) in conjunction with surveys throughout each species' range in California for the purpose of enhancing their survival.

Permit No.'s TE-014444 and TE-014496

Applicants: California Army National Guard, Camp Roberts, California and California Polytechnic State University, San Luis Obispo, California.

The permittees are requesting a permit amendment to take (capture and replace radio-collars) the San Joaquin kit fox (Vulpes macrotis mutica) throughout the species' range in California in conjunction with research to monitor dispersal from Camp Roberts, California for the purpose of enhancing its survival.

Permit No. TE-035619

Applicant: Brad R. Blood, Downey, California.

The applicant requests a permit to take (survey by pursuit) the El Segundo blue butterfly (Euphilotes battoides allyni) throughout the species' range in California in conjunction with surveys for the purpose of enhancing its survival.

Permit No. TE-019947

Applicant: Scott Crawford, Tustin, California.

The permittee requests a permit amendment to take (survey by pursuit) the El Segundo blue butterfly (Euphilotes battoides allyni) throughout the species' range in California in conjunction with surveys for the purpose of enhancing its survival.

Permit No. TE-035655

Applicant: Dr. Fred Andoli, San Luis Obispo, California.

The applicant requests a permit to take (capture and handle; collect tissue samples) the California tiger salamander (Ambystoma californiense) in conjunction with presence or absence surveys and genetic research in Santa Barbara County, California for the purpose of enhancing its survival.

DATES: Written comments on these permit applications must be received on or before December 15, 2000.

ADDRESSES: Written data or comments should be submitted to the Chief—Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: November 6, 2000.
Rowan W. Gould,
Acting Regional Director, Region 1, Portland, Oregon.

[FR Doc. 00-29118 Filed 11-14-00; 8:45 am]

BILLING CODE 4310-55-U